DEPARTMENT OF COMMERCE

National Oceanic and Atmospheric Administration

RIN 0648-XD505

Endangered Species; File No. 18688

AGENCY: National Marine Fisheries Service (NMFS), National Oceanic and Atmospheric Administration (NOAA), Commerce.

ACTION: Notice; receipt of application.

SUMMARY: Notice is hereby given that NMFS Pacific Islands Regional Office, 1601 Kapiolani Boulevard, Suite 1110, Honolulu, HI 96814 [Responsible Party: Michael Tosatto], has applied in due form for a permit to take hawksbill (Eretmochelys imbricata), olive ridley (Lepidochelys olivacea), leatherback (Dermochelys imbricata), loggerhead (Caretta caretta) and green (Chelonia mydas) sea turtles for purposes of scientific research.

DATES: Written, telefaxed, or email comments must be received on or before January 15, 2015.

ADDRESSES: The application and related documents are available for review by selecting “Records Open for Public Comment” from the Features box on the Applications and Permits for Protected Species (APPS) home page, https://apps.nmfs.noaa.gov, and then selecting File No. 18688 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division by email to NMFS.Pr1Comments@noaa.gov (include the File No. in the subject line of the email), by facsimile to (301) 713-0376, or at the address listed above.

Those individuals requesting a public hearing should submit a written request to the Chief, Permits and Conservation Division at the address listed above. The request should set forth the specific reasons why a hearing on this application would be appropriate.

FOR FURTHER INFORMATION CONTACT: Amy Hapeman or Courtney Smith, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

On September 22, 2014 notice (79 FR 56573) was published that the applicant requests a five-year research permit to conduct research on sea turtles bycaught in three longline fisheries in the Pacific Ocean around Hawaii and American Samoa to assess sea turtle post-hooking survival, movements, and ecology in pelagic habitats. NMFS is currently processing this request. The applicant is requesting to revise the number of turtles that could be taken for research in the Hawaii deep-set longline fishery. Each species' take numbers would be reduced except for leatherback sea turtles which would increase from 13 to 24 turtles annually. This change is needed to keep the requested research take activities consistent with a new 2014 Biological Opinion which changed the number of sea turtles that may be incidental bycaught in this commercial fishery. All other aspects of the application would remain the same.

Dated: December 8, 2014.
Julia Harrison,
Chief, Permits and Conservation Division, Office of Protected Resources, National Marine Fisheries Service.

[FR Doc. 2014-29346 Filed 12-15-14; 8:45 am]

BILLING CODE 3510-22-P